ENVIRONMENTAL PROTECTION AGENCY

[FRL-8043-5]

Federal Advisory Committee on Detection and Quantitation Approaches and Uses in Clean Water Act Programs

AGENCY: Environmental Protection Agency (EPA).

ACTION: Notice; FACA Committee Meetings Announcement.

SUMMARY: As required by the Federal Advisory Committee Act, Public Law 92-463, the Environmental Protection Agency is announcing two separate two-day meetings of the Federal Advisory Committee on Detection and Quantitation Approaches and Uses in Clean Water Act (CWA) Programs.

DATES: A meeting of the Federal Advisory Committee on Detection and Quantitation Approaches and Uses in Clean Water Act (CWA) Programs will be held on Wednesday and Thursday, March 29, 2006, and March 30, 2006. Another meeting of this committee will be held on Thursday, July 13, 2006, and Friday, July 14, 2006. The meetings on March 29 and July 13 will be from 9 a.m. until 5 p.m. e.s.t., and on March 30 and July 14, from 8 a.m. to 4 p.m. e.s.t. All times are eastern time.

ADDRESSES: The meetings will be held at the L. William Seidman Center, 3501 North Fairfax Drive, Arlington, Virginia, across from the Virginia Square Metro stop on the Orange line. Members of the public may attend in person or via teleconference. The public may obtain the call-in number and access code for the teleconference lines from Marion Kelly, whose contact information is listed under the FOR FURTHER INFORMATION CONTACT section of this notice.

Document Availability: The draft agenda for both meetings are provided in the General Information section of this notice or from Marion Kelly whose contact information is listed under the FOR FURTHER INFORMATION CONTACT section of this notice. The draft agenda may also be viewed through EDOCKET, as provided in section I.A. of the SUPPLEMENTARY INFORMATION section of this notice.

Any member of the public interested in making an oral presentation at these meetings may contact Richard Reding, whose contact information is listed under FOR FURTHER INFORMATION CONTACT section of this notice. Requests for making oral presentations will be accepted up to two business days prior to each meeting date. In general, each oral presentation will be limited to a total of three minutes.

Submitting Comments

Written comments may be submitted electronically, by mail, or through hand delivery/courier. Follow the detailed instructions as provided in section I.B of the SUPPLEMENTARY INFORMATION section. Written comments will be accepted up to two business days prior to each meeting date.

FOR FURTHER INFORMATION CONTACT: Marion Kelly, Engineering and Analysis Division, 4303T, Environmental Protection Agency, 1200 Pennsylvania Ave., NW., Washington, DC 20460; Telephone number: (202) 566-1045; Fax number: (202) 566-1053; E-mail address: Kelly.Marion@EPA.GOV; Richard Reding, Designated Federal Officer, Environmental Protection Agency, Office of Water, 4303T, 1200 Pennsylvania Ave., NW., Washington, DC 20460; Telephone number: (202) 566-2237; Fax number: (202) 566-1053; E-mail address: Reding.Richard@EPA.GOV.

SUPPLEMENTARY INFORMATION:

I. General Information

This notice announces two meetings of the Federal Advisory Committee on Detection and Quantitation Procedures and Uses in Clean Water Act (CWA) Programs. The purpose of these meetings is to continue to evaluate and recommend detection and quantitation procedures for use in EPA's analytical methods programs for compliance monitoring under 40 CFR part 136. The Committee will analyze and evaluate relevant scientific and statistical approaches, protocols, review data and interpretations of data using current and recommended approaches. The major objectives are to provide advice and recommendations to the EPA Administrator on policy issues related to detection and quantitation, and scientific and technical aspects of procedures for detection and quantitation.

The draft agenda for March 29-30, 2006 includes a report and discussion of issues posed by the Policy Work Group on the uses of detection and quantitation procedures and their results. The Technical Work Group will report its results on designs for pilot testing by a single laboratory or by multiple laboratories. The advisory committee will provide direction to both the Policy and the Technical Work Groups on additional work to be carried out in advance of the committee's July 2006 meeting. The draft agenda for the July 2006 meeting includes a continuation of discussions about recommended uses of detection and quantitation limits in CWA programs, and approval of the design of a laboratory pilot of candidate procedures for calculation of these limits.

Information on Services for Individuals With Disabilities

For information on access or services for individuals with disabilities, please contact Marion Kelly at (202) 566-1045 or e-mail: Kelly.Marion@EPA.GOV to request accommodation of a disability, at least ten days prior to the meeting, to give EPA as much time as possible to process your request.

A. How Can I Get Copies of Related Information?

1. Docket. EPA has established a docket for this committee under Docket ID No. EPA-HQ-OW-2004-0041 in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OW Docket is (202) 566-2426.

2. Electronic Access. You may access this Federal Register document electronically through the EPA Internet under the Federal Register listings at http://www.epa.gov/fedrgstr/. An electronic version of the public docket is available through http://www.regulations.gov. You may use http://www.regulations.gov to submit or view public comments, access the index listing of the contents of the official public docket, and to access those documents in the public docket that are available electronically. Once in the system, select “search,” then key in the appropriate docket identification number (OW-2004-0041).

For those wishing to make public comments, it is important to note that EPA's policy is that comments, whether submitted electronically or on paper, will be made available for public viewing in EPA's electronic public docket as EPA receives them and without change, unless the comment contains copyrighted material, confidential business information (CBI), or other information whose disclosure is restricted by statute. When EPA identifies a comment containing copyrighted material, EPA will provide a reference to that material in the version of the comment that is placed in EPA's electronic public docket. The entire printed comment, including the copyrighted material, will be available in the public docket.

Public comments submitted on computer disks mailed or delivered to the docket will be transferred to EPA's electronic public docket. Written public comments mailed or delivered to the Docket will be scanned and placed in EPA's electronic public docket.

B. How and To Whom Do I Submit Comments?

You may submit comments electronically, by mail, or through hand delivery/courier. To ensure proper receipt by EPA, identify the appropriate docket identification number (OW-2004-0041) in the subject line on the first page of your comment. Please ensure that your comments are submitted within the specified comment period.

1. Electronically. If you submit an electronic comment as prescribed below, EPA recommends that you include your name, mailing address, and an e-mail address or other contact information in the body of your comment. Also include this contact information on the outside of any disk or CD ROM you submit, and in any cover letter accompanying the disk or CD ROM.

This ensures that you can be identified as the submitter of the comment, and it allows EPA to contact you if further information on the substance of the comment is needed or if your comment cannot be read due to technical difficulties. EPA's policy is that EPA will not edit your comment, and any identifying or contact information provided in the body of a comment will be included as part of the comment placed in the official public docket and made available in EPA's electronic public docket. If EPA cannot read your comment due to technical difficulties and cannot contact you for clarification, EPA may not be able to consider your comment.

i. http://www.regulations.gov. Your use of EPA's electronic public docket to submit comments to EPA electronically is EPA's preferred method for receiving comments. Go directly to http://www.regulations.gov and follow the online instructions for submitting comments. To access EPA's electronic public docket from the EPA Internet Home Page, http://www.epa.gov, select “Information Sources,” “Dockets,”. Once in the system, select “search,” and then key in Docket ID No. EPA-HQ-OW-2004-0041. The system is an anonymous access system, which means EPA will not know your identity, e-mail address, or other contact information unless you provide it in the body of your comment.

ii. E-mail. Comments may be sent by electronic mail (e-mail) to OW-Docket@epa.gov, Attention Docket ID No. EPA-HQ-OW-2004-0041. In contrast to EPA's electronic public docket, EPA's e-mail system is not an anonymous access system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM mailed to the mailing address identified in section I.B.2 of this notice. These electronic submissions will be accepted in Word, WordPerfect or rich text files. Avoid the use of special characters and any form of encryption.

2. By Mail. Send your comments to: U.S. Environmental Protection Agency, OW Docket, EPA Docket Center (EPA/DC), Mailcode: 2822T, 1200 Pennsylvania Ave., NW., Washington, DC, 20460, Attention Docket ID No. OW-2004-0041.

3. By Hand Delivery or Courier. Deliver your comments to: EPA Docket Center (EPA/DC), Room B102, EPA West Building, 1301 Constitution Avenue, NW., Washington, DC, Attention Docket ID No. OW-2004-0041 (Note: this is not a mailing address). Such deliveries are only accepted during the docket's normal hours of operation as identified in section I.A.1 of this notice.

Dated: March 2, 2006.
Richard Reding,
Designated Federal Officer.

[FR Doc. E6-3343 Filed 3-8-06; 8:45 am]

BILLING CODE 6560-50-P